FEDERAL COMMUNICATIONS COMMISSION

47 CFR Chapter I

[CC Docket No. 01-92; DA 06-2339]

Developing a Unified Intercarrier Compensation Regime

AGENCY: Federal Communications Commission.

ACTION: Proposed rule, extension of reply comment period.

SUMMARY: This document grants a motion requesting an extension of time to file reply comments on an intercarrier compensation reform plan, the “Missoula Plan.” The Order modifies the pleading cycle by extending the comment period in order to facilitate the development of a more substantive and complete record in this proceeding.

DATES: Submit reply comments on or before January 11, 2007.

ADDRESSES: You may submit comments, identified by CC Docket No. 01-92, by any of the following methods:

• Federal eRulemaking Portal: http://www.regulations.gov. Follow the instructions for submitting comments.

• Agency Web site: http://www.fcc.gov. Follow the instructions for submitting comments on the Electronic Comment Filing System (ECFS) / http://www.fcc.gov/cgb/ecfs/.

• E-mail: To victoria.goldberg@fcc.gov. Include CC Docket 01-92 in the subject line of the message.

• Fax: To the attention of Victoria Goldberg at 202-418-1567. Include CC Docket 01-92 on the cover page.

• Mail: Parties should send a copy of their filings to Victoria Goldberg, Pricing Policy Division, Wireline Competition Bureau, Federal Communications Commission, Room 5-A266, 445 12th Street, SW., Washington, DC 20554.

• Hand Delivery / Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided. For detailed instructions on submitting comments and additional information on the rulemaking process, see the Public Notice requesting comment on the Missoula Plan. 71 FR 45510, Aug. 9, 2006.

FOR FURTHER INFORMATION CONTACT: Jennifer McKee, Wireline Competition Bureau, Pricing Policy Division, (202) 418-1530, or Victoria Goldberg, Wireline Competition Bureau, Pricing Policy Division, (202) 418-7353.

SUPPLEMENTARY INFORMATION: This is a summary of the Commission's Order released November 20, 2006. The complete text of the Order is available for inspection and copying during business hours at the FCC Reference Information Center, Portals II, 445 12th St., SW., Room CY-A257, Washington, DC 20554. The complete text of this document also may be purchased from the Commission's copy contractor, Best Copy and Printing, Inc., 445 12th Street, SW., Room, CY-B402, Washington, DC 20554. The complete text may also be downloaded at: http://www.fcc.gov. By the Order, the Wireline Competition Bureau (WCB) grants a motion requesting an extension of the date for filing reply comments on an intercarrier compensation plan called the “Missoula Plan.” The Missoula Plan was filed on July 24, 2006 by the National Association of Regulatory Utility Commissioners' Task Force on Intercarrier Compensation. On July 25, 2006, the WCB released a Public Notice requesting that comments on the Missoula Plan be filed by September 25, 2006, and reply comments by November 9, 2006. 71 FR 45510, Aug. 9, 2006. On August 29, 2006, WCB released an order granting extensions of the comment and reply comment filing dates to October 25, 2006 and December 11, 2006. 71 FR 54008, Sep. 13, 2006. Over 110 parties filed initial comments on or before October 25, 2006. On November 17, 2006, the National Association of Regulatory Utility Commissioners filed a motion requesting an extension of the reply comment date to January 11, 2007.

The WCB determined that providing additional time to file reply comments will facilitate the development of a more substantive and complete record in this proceeding. Although it is the policy of the Commission that extensions of time shall not be routinely granted, the WCB determined that given the number, length, and variety of initial comments, good cause exists to provide parties an extension of time, from December 11, 2006 to January 11, 2007 for filing reply comments in this proceeding.

Accordingly, it is ordered that, pursuant to sections 4(i), 4(j), and 5(c) of the Communications Act, 47 U.S.C. 154(i), 154(j), 155(c), and §§ 0.91, 0.291, and 1.46 of the Commission's rules, 47 CFR 0.91, 0.291, 1.46, the pleading cycle established in this matter shall be modified as follows:

Reply Comments Due: January 11, 2007.

All other filing procedures remain unchanged from those previously established in this proceeding.

It is further ordered that the Motion of the National Association of Regulatory Utility Commissioners for Extension of Time is granted, as set forth herein.

Federal Communications Commission.
Thomas J. Navin,
Chief, Wireline Competition Bureau.

[FR Doc. E6-20676 Filed 12-5-06; 8:45 am]

BILLING CODE 6712-01-P